DEPARTMENT OF TRANSPORTATION

Federal Transit Administration

FY 2012 Discretionary Funding Opportunity: Paul S. Sarbanes Transit in Parks Program

AGENCY: Federal Transit Administration (FTA), DOT.

ACTION: Notice of Availability: Solicitation of Project Proposals

SUMMARY: The Federal Transit Administration (FTA) announces the availability of approximately $12 million in Paul S. Sarbanes Transit in Parks Program (Transit in Parks Program) discretionary funds in Fiscal Year (FY) 2012. FTA announced the allocation of $13.5 million in FY 2012 Transit in Parks Program funds in the Federal Register on February 3, 2012. This notice solicits proposals to compete for program funds that have been appropriated since that date and may include additional funds made available after this notice is published.

The Transit in Parks Program was established by Section 3021 of SAFETEA-LU, as amended (49 U.S.C. 5320), and was repealed, effective October 1, 2012, by the most recent transportation authorization, Moving Ahead for Progress in the 21st Century (MAP-21). This announcement solicits proposals for the final allocation of program funding, as defined above. The program is administered by FTA in partnership with the Department of the Interior and the U.S. Department of Agriculture's Forest Service.

The Transit in Parks Program funds capital and planning expenses for alternative transportation systems such as buses, trams and non-motorized trails in federally managed parks and public lands. Federal land management agencies, as well as State, tribal and local governments, acting with the consent of a Federal land management agency, are eligible to apply. DOI, after consultation with and in cooperation with FTA, will determine the final selection and funding of projects. Geographic diversity will be considered when allocating funds.

This announcement is available on the FTA Web site at: http://www.fta.dot.gov. FTA will announce final selections on the Web site and in the Federal Register. A synopsis of this funding opportunity will be posted in the FIND module of the government-wide electronic grants Web site at http://www.grants.gov.

DATES: Complete proposals must be received by 11:59 p.m. EDT on Friday, September 28, 2012.

ADDRESSES: Project proposals originating from State, Tribal or local government entities must be submitted electronically through the GRANTS.GOV Web site. Project proposals originating from units of Federal land management agencies must be submitted directly to their agency points of contact, as listed at the end of this notice, or to specific regional agency coordinators as directed by each agency. Federal land management agency units may propose projects in cooperation with other eligible funding recipients, including projects where an eligible partner is the intended funding recipient.

Applicants required to use GRANTS.GOV must be properly registered prior to submitting an application, and should initiate the process of registering on the GRANTS.GOV site immediately to ensure completion of registration before the deadline for submission. GRANTS.GOV applicants should receive two confirmation emails. The first will confirm that the application was received and a subsequent email will be sent within 24-48 hours indicating whether the application was validated or rejected by the system. If interested parties experience difficulties at any point during the registration or application process, please call the GRANTS.GOV Customer Support Hotline at 1-800-518-4726, Monday-Friday from 7 a.m. to 9 p.m. EST. The required electronic project proposal template as well as guidance on completing a proposal can be found on GRANTS.GOV or on the program Web site at http://www.fta.dot.gov/transitinparks.

FOR FURTHER INFORMATION CONTACT: The appropriate FTA Regional Office (http://fta.dot.gov/12317_1119.html) or the appropriate land management agency (Appendix A) for proposal-specific information. For general program information, contact Adam Schildge, Paul S. Sarbanes Transit in Parks Program, at (202) 366-0778, Adam.Schildge@dot.gov. A TDD is available at 1-800-877-8339 (TDD/FIRS). For technical assistance or general inquiries regarding alternative transportation in federal lands, contact the Transit in Parks Technical Assistance Center at http://www.triptac.org, (877) 704-5292, or helpdesk@triptac.org.

SUPPLEMENTARY INFORMATION

Table of Contents

I. Overview

II. Program Purpose

III. Program Information

A. Eligible Applicants

B. Eligible Projects

C. Financial Limitations and Cost Sharing

D. Application Content

E. Evaluation Criteria

IV. Technical Assistance and Other Program Information

Appendix A Land Management Agency Contacts

I. Overview

Section 3021 of the Safe, Accountable, Flexible, Efficient Transportation Equity Act—A Legacy for Users of 2005 (SAFETEA-LU), as amended, established the Paul S. Sarbanes Transit in Parks Program (Transit in Parks Program) (49 U.S.C. 5320). On July 7, 2012, Moving Ahead for Progress in the 21st Century (MAP-21) was enacted, repealing the Transit in Parks Program effective on October 1, 2012. This notice solicits project proposals for the allocation of approximately $12 million in remaining program funding. The program is administered by the Federal Transit Administration (FTA) in partnership with the Department of the Interior (DOI) and the U.S. Department of Agriculture's Forest Service.

Congestion in and around our national parks and public lands causes traffic delays, creates pollution, and can detract from the visitor experience and the protection of sensitive natural and cultural resources. Since 2006, the Transit in Parks Program has allocated approximately $160 million to competitively selected alternative transportation projects that provide improved mobility and accessibility within our public lands, reduce the environmental impacts of automobile traffic congestion, improve the safety and recreational experience of visitors, and provide sustainable and cost-efficient solutions for transportation challenges on our nation's parks, refuges, forests and other public lands. As with other types of transportation infrastructure, alternative transportation systems on public lands require continued capital investment. In addition, planning studies funded through this program have identified new opportunities for alternative transportation projects to provide an effective response to these challenges.

II. Program Purpose

The purpose of the program is to provide for the capital and planning costs of alternative transportation systems that will enhance the protection of national parks and Federal lands; increase the enjoyment of visitors' experience by conserving natural, historical, and cultural resources; reduce congestion and pollution; improve visitor mobility and accessibility; enhance visitor experience; and ensure access to all, including persons with disabilities.

Since this is the final competition for funding under this program, FTA anticipates prioritizing projects that will be of independent utility and will not require future sources of funding to complete. Additionally, FTA anticipates prioritizing projects that are ready to begin implementation and can be completed within a reasonable timeframe.

III. Program Information

A. Eligible Applicants

Eligible applicants are (1) Federal land management agencies that own or manage a park, refuge or recreational area that is open to the public, including but not limited to units of the National Park Service, the U.S. Fish and Wildlife Service, the Bureau of Land Management, the U.S. Forest Service, and the Bureau of Reclamation; and (2) State, tribal and local governments with jurisdiction over land in the vicinity of an eligible area, as defined above, acting with the consent of a Federal land management agency, alone or in partnership with a Federal land management agency or other governmental or non-governmental participant. Note: If the applicant is a State, tribal, or local government, a letter from the affected unit(s) of the Federal land management agency or agencies expressing support for the project must be submitted with the project proposal in order to indicate consent. Applications without support letters from the relevant Federal land management agency or agencies unit(s) will be deemed ineligible. Non-profit organizations are not eligible recipients of funding under this program, but may partner with an eligible applicant as defined above.

B. Eligible Projects

SAFETEA-LU defines alternative transportation as “transportation by bus, rail, or any other publicly or privately owned conveyance that provides to the public general or special service on a regular basis, including sightseeing service. Such term also includes a non-motorized transportation system (including the provision of facilities for pedestrians, bicycles, and non-motorized watercraft).”

The program funds capital and planning expenses for alternative transportation systems in, and in the vicinity of, federally owned or managed parks and public lands. A qualified planning or capital project must be within the vicinity of a federally owned or managed park, refuge, or recreational area open to the general public and must meet the goals of the program. The costs of operating and maintaining an alternative transportation system are not eligible under the program. A project proposal may include in its budget up to 15 percent for project administration, contingency, and oversight. As specified in 49 U.S.C. 5320(b)(5), the following types of projects are eligible:

1. Planning

Activities to comply with metropolitan and statewide planning provisions (49 U.S.C. 5320(b)(5)(A) referencing 49 U.S.C. 5303, 5304, 5305). Activities include planning studies for an alternative transportation system including evaluation of no-build and all other reasonable alternatives, traffic studies, visitor utilization studies, transportation analysis, feasibility studies, and environmental studies. Because this is the final allocation of funding under this program, planning proposals must demonstrate independent utility, and projected benefits should not be dependent upon the availability of future funding.

2. Capital

Eligible capital projects include all aspects of “acquiring, constructing, supervising, or inspecting equipment or a facility for use in public transportation, expenses incidental to the acquisition or construction (including designing, engineering, location surveying, mapping, and acquiring rights-of-way), payments for the capital portions of rail trackage rights agreements, transit-related intelligent transportation systems, relocation assistance, acquiring replacement housing sites, and acquiring, constructing, relocating, and rehabilitating replacement housing.”

Capital projects may include projects operated by an outside entity, such as a public transportation agency, state or local government, private company engaged in public transportation, or private non-profit organization; and, projects may also include the deployment/commercialization of alternative transportation vehicles that introduce innovative technologies or methods.

The capital cost of leasing vehicles is an eligible expense under the program. For vehicle acquisition projects, sponsors should compare the cost-effectiveness of leasing versus purchasing vehicles. Leasing may be particularly cost-effective in circumstances in which transit service is only needed during a peak visitation period that lasts only a few months. In these cases, leasing a vehicle for a few months during the year may be less expensive than purchasing a vehicle only used for a few months during the year. An award can cover the capital cost of leasing vehicles but may not cover the cost of operations, such as fuel or operator salaries.

Project sponsors should also compare the cost effectiveness of providing service versus contracting for service. The capital portion of contracted service is an eligible capital expense under the program. For example, if a public land agency contracts with a private bus company to provide shuttle service with privately owned buses, the portion of the contract that covers the capital expense of the buses is an eligible expense under the Transit in Parks Program. Operating expenses are not eligible under the program. Project sponsors should compare the cost-effectiveness of their preferred option to other alternatives in the financial sustainability portion of the proposal.

3. “Fixed Guideway” and Bus Projects

Fixed guideway projects are eligible for funding through this program. They are defined as transportation projects that run on a dedicated right-of-way, such as a light rail, trolley, bus rapid transit, or any type of ferry system. Eligible projects can include the development of a new fixed guideway project; rehabilitation or modernization of existing fixed guideway systems; and expansion of existing systems. For bus or shuttle projects, eligible projects can include purchase of buses and related equipment; replacement of buses and related equipment; rehabilitation of buses and related equipment; construction of bus-related facilities such as bus shelters; and purchase of rolling stock that incorporates clean fuel technology or the replacement of buses of a type in use on August 10, 2005, with clean fuel vehicles.

4. Other Eligible Projects

The Transit in Parks Program specifically includes these other eligible capital projects:

i. The capital costs of coordinating Federal land management agency public transportation systems with other public transportation systems.

ii. Non-motorized transportation systems (including the provision of facilities for pedestrians, bicycles and non-motorized watercraft).

iii. Water-borne access systems within or in the vicinity of an eligible area as appropriate and consistent with 49 U.S.C. 5320.

iv. Any other alternative transportation project that enhances the environment; prevents or mitigates an adverse impact on a natural resource; improves Federal land management agency resource management; improves visitor mobility and accessibility and the visitor experience; reduces congestion and pollution (including noise pollution and visual pollution); or conserves a natural, historical, or cultural resource (excluding rehabilitation or restoration of a non-transportation facility). This includes the enhancement or extension of qualifying alternative transportation systems, including the development of related intelligent transportation systems (ITS).

In order to be considered for funding a project must consist of one or more of the eligible activities listed above, meet the definition of alternative transportation, and contribute to the goals of the program. Technical assistance relating to planning and implementing eligible alternative transportation systems is available from the Paul S. Sarbanes Transit in Parks Technical Assistance Center (http://www.triptac.org).

C. Financial Limitations and Cost Sharing

No one project may receive more than 25 percent of the available funds. Based on the combined availability of $26.9 million in Transit in Parks funds for FY 2012, the statutory maximum is $6.7 million. Based on the limited amount of funding available under this notice, FTA may apply a maximum award ceiling of $2 million. Projects selected for funding may receive up to a 100 percent Federal share.

D. Application Content

The required electronic project proposal template can be found on GRANTS.GOV and on the program Web site at http://www.fta.dot.gov/transitinparks. Applications must follow the guidelines posted in the proposal template instructions. Narrative responses may not exceed the word limits noted in the application instructions. Applications that exceed these limits may not be reviewed.

In addition to the proposal template, applicants should submit an engineering cost estimate, or an otherwise detailed budget, and a project timeline that indicates projected start and completion dates. These documents may be submitted as separate attachments. Letters of support, photos, graphics and other non-narrative materials may also be submitted.

E. Evaluation Criteria

Proposed capital projects will be evaluated based on the following criteria:

1. Demonstration of Need, including:

i. Visitor mobility and experience (current or anticipated problem); and

ii. Environmental (current or anticipated problem).

2. Visitor Mobility and Experience Benefits of Project, including:

i. Reduced traffic congestion;

ii. Enhanced visitor mobility, accessibility, and safety; and

iii. Improved visitor education, recreation, and health benefits.

3. Environmental Benefits of Project, including:

i. Protection of sensitive natural, cultural, and historic resources; and

ii. Reduced pollution (air, noise, visual).

4. Financial Sustainability and Operational Efficiency, including:

i. Effectiveness in improving transportation system operations and efficiency;

ii. Realistic and financially-sustainable financial plan;

iii. Cost effectiveness; and

iv. Partnering, funding from other sources, innovative financing.

Proposed planning projects will be evaluated based on the following criteria:

1. Demonstration of Need, including:

i. Visitor mobility and experience (current or anticipated problem); and

ii. Environmental (current or anticipated problem).

2. Proposed Planning Methodology Relating to Visitor Mobility and Experience, including:

i. Reduced traffic congestion;

ii. Enhanced visitor mobility, accessibility, and safety; and

iii. Improved visitor education, recreation, and health benefits.

3. Proposed Planning Methodology Relating to Environmental Protection, including:

i. Protection of sensitive natural, cultural, and historical Resources; and

ii. Reduced pollution (air, noise, visual).

4. Proposed Planning Methodology Relating to Operational Efficiency and Financial Sustainability, including:

i. Effectiveness in improving transportation system operations and efficiency;

ii. Realistic and financially-sustainable financial plan;

iii. Cost effectiveness; and

iv. Partnering, funding from other sources.

Applicants that have previously received funding through this program must be current in submitting their quarterly and annual reports to FTA to be considered for funding under this program.

A special note on non-motorized transportation systems: While non-motorized systems, such as trails, are eligible under the program, not all non-motorized systems will meet the goals of the program needed to be considered for funding. Like motorized systems, in order to be considered for funding, non-motorized systems must reduce or mitigate the number of auto trips by providing an alternative to travel by private auto. In addition, non-motorized systems must provide a high degree of connectivity within a transportation system. Finally, they should improve safety for motorized and non-motorized transportation system users.

IV. Technical Assistance and Other Program Information

Complete applications must be submitted via GRANTS.GOV by September 28, 2012. Additional program information is available at http://www.fta.dot.gov/transitinparks. Projects selected for funding will be required to report quarterly and submit performance data to FTA through the appropriate agency. Detailed information on reporting will be included in the Federal Register notice announcing projects selected for funding. Technical assistance regarding the program is available by contacting Adam Schildge, Federal Transit Administration, (202)366-0778, adam.schildge@dot.gov or the appropriate Federal Land Management Agency contact (see Appendix C). For technical assistance or general inquiries regarding alternative transportation in federal lands, please contact the Transit in Parks Technical Assistance Center at www.triptac.org, (877) 704-5292, or helpdesk@triptac.org.

Issued in Washington, DC, this 23rd day of August, 2012.
Peter Rogoff,
Administrator.

Appendix A—Federal Land Management Agencies

Transit in Parks Program Contacts

• National Park Service: Jim Evans, Jim_Evans@nps.gov; telephone: 202-513-7021, fax: 202-371-6675, mail: 1201 Eye Street NW. 10th Floor; Washington, DC 20005.

• Fish and Wildlife Service: Nathan Caldwell, Nathan_Caldwell@fws.gov, telephone: 703-358-2205, fax: 703-358-2517, mail: 4401 N. Fairfax Drive, Room 634; Arlington, VA 22203.

• Forest Service: Rosana Barkawi, rosanabarkawi@fs.fed.us, telephone: (703) 605-4509, mail: 1621 N Kent Street, Room 900, Arlington, VA 22209.

• Bureau of Land Management: Victor F. Montoya, Victor_Montoya@blm.gov, telephone: 202-912-7041, mail: 1620 L Street, WO-854, Washington, DC 20036.

[FR Doc. 2012-21220 Filed 8-27-12; 8:45 am]

BILLING CODE P